DEPARTMENT OF ENERGY

Federal Energy Regulatory Commission

Privacy Act of 1974; System of Records

AGENCY: Federal Energy Regulatory Commission (FERC), Department of Energy (DOE).

ACTION: Rescindment of a system of records notice.

SUMMARY: Pursuant to the Privacy Act of 1974 and Office of Management and Budget (OMB) Circular No. A-108, the Federal Energy Regulatory Commission (Commission or FERC) proposes to rescind an existing system of records notice (SORN) titled “Commission Reconsideration of Retirement Refund Decisions File (FERC—27).” The Rescindment of System of Records Notice identifies the system of records and explains why it is being rescinded.

DATES: Comments on this rescindment notice must be received no later than 30 days after the date of publication in the Federal Register. If no public comment is received during the period allowed for comment or unless otherwise published in the Federal Register by FERC, the rescindment will become effective a minimum of 30 days after the date of publication in the Federal Register. If FERC receives public comments, FERC shall review the comments to determine whether any changes to the notice are necessary.

ADDRESSES: Comments may be submitted in writing to Federal Energy Regulatory Commission, 888 First Street, NE, Washington, DC 20426, or electronically to privacy@ferc.gov. Comments should indicate that they are submitted in response to “Commission Reconsideration of Retirement Refund Decisions File (FERC—27).”

FOR FURTHER INFORMATION CONTACT: Director, Human Resource Division, Chief Human Capital Officer Directorate, Office of the Executive Director, Federal Energy Regulatory Commission, 888 First Street NE, Washington, DC 20426, (202) 502-6852.

SUPPLEMENTARY INFORMATION: Commission Reconsideration of Retirement Refund Decisions File (FERC—27) was identified for rescindment from the FERC's Privacy Act systems of records inventory because the Commission no longer retains records related to the refund of Civil Service Retirement/Federal Employees Retirement System deductions. Instead, former employees are directed to file directly with Office of Personnel Management (OPM). The records are covered by the OPM SORN titled “Civil Service Retirement and Insurance Records (OPM Central-1)” (75 FR 15013; 80 FR 74815).

SYSTEM NAME AND NUMBER:

Commission Reconsideration of Retirement Refund Decisions File (FERC—27).

HISTORY:

65 FR 21749 (April 24, 2000).

Dated: December 10, 2024.
Carlos D. Clay,
Acting Deputy Secretary.

[FR Doc. 2024-29532 Filed 12-13-24; 8:45 am]

BILLING CODE 6717-01-P